DEPARTMENT OF HEALTH AND HUMAN SERVICES

Centers for Disease Control and Prevention

Disease, Disability, and Injury Prevention and Control Special Emphasis Panel (SEP): Preparedness and Emergency Response Research Centers: A Public Health System Approach, Program Announcement Number (PA) TP 08-001

In accordance with Section 10(a)(2) of the Federal Advisory Committee Act (Pub. L. 92-463), the Centers for Disease Control and Prevention (CDC) announces the aforementioned meeting.

Times and Dates:

7 p.m.-9:30 p.m., July 7, 2008 (Closed).

8:30 a.m.-5:30 p.m., July 8, 2008 (Closed).

8:30 a.m.-5:30 p.m., July 9, 2008 (Closed).

7 p.m.-9:30 p.m., July 9, 2008 (Closed).

8:30 a.m.-5:30 p.m., July 10, 2008 (Closed).

8:30 a.m.-5:30 p.m., July 11, 2008 (Closed).

Place: Spring Hill Suites Marriott, 3459 Buckhead Loop, Atlanta, GA 30326, Telephone (404) 844-4800.

Status: The meeting will be closed to the public in accordance with provisions set forth in Section 552b(c) (4) and (6), Title 5 U.S.C., and the Determination of the Director, Management Analysis and Services Office, CDC, pursuant to Public Law 92-463.

Matters to be Discussed: The meeting will include the review, discussion, and evaluation of applications received in response to “Preparedness and Emergency Response Research Centers: A Public Health System Approach,” PA TP 08-001.

Contact Person for More Information: Charles Rafferty, Ph.D., Senior Scientific Review Officer, Office of Science and Public Health Practice, Coordinating Office for Terrorism Preparedness and Emergency Response, CDC, 1600 Clifton Road NE., Mailstop D44, Atlanta, GA 30333, Telephone (404) 639-7495.

The Director, Management Analysis and Services Office, has been delegated the authority to sign Federal Register notices pertaining to announcements of meetings and other committee management activities, for both CDC and the Agency for Toxic Substances and Disease Registry.

Dated: May 9, 2008.
Elaine L. Baker,
Director, Management Analysis and Services Office, Centers for Disease Control and Prevention.

[FR Doc. E8-10974 Filed 5-15-08; 8:45 am]

BILLING CODE 4163-18-P